DEPARTMENT OF ENERGY

Federal Energy Regulatory Commission

Combined Notice of Filings #1

February 10, 2009.

Take notice that the Commission received the following electric corporate filings:

Docket Numbers: EC09-54-000.

Applicants: MACH Gen, LLC, New Athens Generating Company, LLC, New Harquahala Generating Company, LLC, Millennium Power Partners, L.P., Strategic Value Partners, LLC

Description: Application of MACH Gen, LLC, et al. for Order Authorizing Disposition of Jurisdictional Facilities under Section 203 of the Federal Power Act and Request for Expedited Action.

Filed Date: 02/04/2009.

Accession Number: 20090204-5157.

Comment Date: 5 p.m. Eastern Time on Wednesday, February 25, 2009.

Take notice that the Commission received the following electric rate filings:

Docket Numbers: ER95-1528-020; ER01-1114-013; ER05-89-012; ER05-453-004; ER07-650-002; ER96-1088-047; ER03-674-013; ER01-2659-014; ER02-2199-012; ER03-54-012; ER99-1936-012; ER01-1114-013; ER07-651-001.

Applicants: Wisconsin Public Service Corporation, Upper Peninsula Power Company, Wisconsin River Power Company, WPS Energy Services, Inc., WPS POWER DEVELOPMENT, LLC, Quest Energy, LLC, Combined Locks Energy Center, LLC, WPS Empire State, Inc., WPS Beaver Falls Generation, LLC, WPS Syracuse Generation, LLC, WPS Canada. Generation, Inc., WPS New England Generation, Inc., WPS Westwood Generation, LLC, Advantage Energy, Inc.

Description: Integrys Energy Group, Inc submits revisions to its 12/22/08 compliance filing of market-based rate tariffs.

Filed Date: 02/03/2009.

Accession Number: 20090205-0272.

Comment Date: 5 p.m. Eastern Time on Tuesday, February 24, 2009.

Docket Numbers: ER96-2652-057; ER08-293-002; ER08-297-002; ER08-589-002; ER99-4228-010; ER99-3693-006; ER99-4229-010; ER99-4231-009; ER99-666-007; ER99-852-011.

Applicants: CL Power Sales Eight, L.L.C.; Forward Windpower, LLC; Lookout Windpower, LLC; Edison Mission Solutions, L.L.C.; CP Power Sales Nineteen, L.L.C.; Midwest Generation, LLC; CP Power Sales Seventeen, L.L.C.; CP Power Sales Twenty, L.L.C.; EME HOMER CITY GENERATION LP; Edison Mission Marketing & Trading, Inc.

Description: EME Companies submits revised market based rate tariffs and request for Category 1 Seller Status for particular regions.

Filed Date: 02/06/2009.

Accession Number: 20090210-0280.

Comment Date: 5 p.m. Eastern Time on Friday, February 20, 2009.

Docket Numbers: ER99-2984-013.

Applicants: Green Country Energy, LLC.

Description: Green County Energy, LLC submits a revision to their market-based rate wholesale power sales tariff pursuant to Order 697.

Filed Date: 02/05/2009.

Accession Number: 20090206-0244.

Comment Date: 5 p.m. Eastern Time on Thursday, February 26, 2009

Docket Numbers: ER01-3103-017.

Applicants: Astoria Energy LLC.

Description: Astoria Energy LLC submits notification of non material change in status.

Filed Date: 02/05/2009.

Accession Number: 20090206-0245.

Comment Date: 5 p.m. Eastern Time on Thursday, February 26, 2009.

Docket Numbers: ER03-719-012; ER03-721-011.

Applicants: New Athens Generating Company, LLC; New Harquahala Generating Company, LLC.

Description: Withdrawal of Notice of Non-Material Change in Status.

Filed Date: 02/04/2009.

Accession Number: 20090204-5136.

Comment Date: 5 p.m. Eastern Time on Wednesday, February 25, 2009.

Docket Numbers: ER03-752-003.

Applicants: Solaro Energy Marketing Corporation, Inc.

Description: Solaro Energy Marketing Corporation request to be designated as a Category I Seller in all regions of the United States in compliance with Order 697 Compliance Filing.

Filed Date: 02/03/2009.

Accession Number: 20090205-0486.

Comment Date: 5 p.m. Eastern Time on Tuesday, February 24, 2009.

Docket Numbers: ER04-157-027; ER04-714-017.

Applicants: Bangor Hydro-Electric Company; New England Transmission Owners, Florida Power & Light Co. New England.

Description: Refund Report of New England Transmission Owners.

Filed Date: 02/10/2009.

Accession Number: 20090210-5037.

Comment Date: 5 p.m. Eastern Time on Tuesday, March 3, 2009.

Docket Numbers: ER06-754-006.

Applicants: Auburndale Power Partners, L.P.

Description: Amendment to Updated Market Power Analysis of Auburndale Power Partners, L.P.

Filed Date: 02/04/2009.

Accession Number: 20090204-5101.

Comment Date: 5 p.m. Eastern Time on Wednesday, February 25, 2009.

Docket Numbers: ER07-189-006; ER07-190-006; ER07-191-006; ER07-192-004.

Applicants: Duke Energy Indiana, Inc.; Duke Energy Kentucky, Inc.; Duke Energy Ohio, Inc.; Duke Energy Business Services LLC.

Description: Supplement to Duke MBR Companies' Dec. 17, 2008 analysis re MISO updated SIL study.

Filed Date: 02/06/2009.

Accession Number: 20090206-5101.

Comment Date: 5 p.m. Eastern Time on Friday, February 27, 2009.

Docket Numbers: ER07-59-005.

Applicants: Fortis Energy Marketing & Trading GP.

Description: Fortis Energy Marketing & Trading GP Supplement to Updated Tariff Sheet Incorporating Standard Language for Market-Based Sales of Ancillary Services in the Midwest Independent Transmission System Operator, Inc.

Filed Date: 02/06/2009.

Accession Number: 20090206-5100.

Comment Date: 5 p.m. Eastern Time on Friday, February 27, 2009.

Docket Numbers: ER08-274-004.

Applicants: Citadel Energy Strategies, LLC.

Description: Citadel Energy Strategies LLC submits notice of change in status.

Filed Date: 02/02/2009.

Accession Number: 20090204-0087.

Comment Date: 5 p.m. Eastern Time on Monday, February 23, 2009.

Docket Numbers: ER08-1329-003.

Applicants: American Electric Power Service Corporation.

Description: Appalachian Power Company et al. submits Second Substitute Original Sheet 314C.04 et al. to FERC Gas Tariff, Sixth Revised Volume 1.

Filed Date: 02/05/2009.

Accession Number: 20090206-0243.

Comment Date: 5 p.m. Eastern Time on Thursday, February 26, 2009.

Docket Numbers: ER09-186-001.

Applicants: Pacific Gas and Electric Company.

Description: Compliance Refund Report Filing in the Matter of the Twenty-Third Quarterly Filing of Facilities Agreements between Pacific Gas and Electric Company and the City and County of San Francisco.

Filed Date: 02/06/2009.

Accession Number: 20090206-5223.

Comment Date: 5 p.m. Eastern Time on Friday, February 27, 2009.

Docket Numbers: ER09-219-002; ER09-220-002.

Applicants: Duke Energy Carolinas, LLC; Duke Energy Carolinas, LLC.

Description: Duke Energy Carolinas, LLC submits corrections to its 1/7/09 compliance filing to include Attachment A, Second Substitute Sixth Revised Service Agreement 208 et al.

Filed Date: 02/04/2009.

Accession Number: 20090205-0488.

Comment Date: 5 p.m. Eastern Time on Wednesday, February 25, 2009.

Docket Numbers: ER09-301-001.

Applicants: Florida Power Corporation.

Description: Progress Energy Florida, Inc submits a cost based Power Sales Agreement with the Utilities Commission, City of New Smyrna Beach, Florida, to be effective 1/17/09.

Filed Date: 02/04/2009.

Accession Number: 20090205-0489.

Comment Date: 5 p.m. Eastern Time on Wednesday, February 25, 2009.

Docket Numbers: ER09-498-001.

Applicants: Vickers Power, L.L.C.

Description: Vickers Power, LLC submits an Amended Application for Market-Based Rate Authority and Request for Waivers, Blanket Authorizations, and Expedited Action.

Filed Date: 02/05/2009.

Accession Number: 20090206-0246.

Comment Date: 5 p.m. Eastern Time on Thursday, February 26, 2009.

Docket Numbers: ER09-502-001.

Applicants: EDF Development, Inc.

Description: EDF Development, Inc. submits Substitute Original Sheets to FERC Electric Tariff, Original Volume 1.

Filed Date: 02/06/2009.

Accession Number: 20090209-0201.

Comment Date: 5 p.m. Eastern Time on Tuesday, February 17, 2009.

Docket Numbers: ER09-523-001.

Applicants: Alliant Energy Industrial Services, Inc.

Description: Alliant Energy Industrial Services, Inc. submits a revised Notice of Cancellation and Tariff Sheet for AEIS Rate Schedule FERC 1.

Filed Date: 02/05/2009.

Accession Number: 20090209-0129.

Comment Date: 5 p.m. Eastern Time on Thursday, February 26, 2009.

Docket Numbers: ER09-614-000.

Applicants: Vista Energy Trading, LP.

Description: Vista Energy Trading submits Petition for Acceptance of Initial Tariff, Waivers and Blanket Authority, FERC Electric Tariff, Original Volume 1.

Filed Date: 02/04/2009.

Accession Number: 20090205-0487.

Comment Date: 5 p.m. Eastern Time on Wednesday, February 25, 2009.

Docket Numbers: ER09-634-000.

Applicants: AIG Energy Inc.

Description: AIG Energy Inc submits a notice of cancellation of AIG EI's First Revised Rate Schedule FERC 1.

Filed Date: 02/03/2009.

Accession Number: 20090203-0146.

Comment Date: 5 p.m. Eastern Time on Tuesday, February 24, 2009.

Docket Numbers: ER09-649-000.

Applicants: Orange and Rockland Utilities, Inc.

Description: Orange and Rockland Utilities, Inc. submits a notice of cancellation for multiple non-firm point-to-point transmission Service Agreements.

Filed Date: 02/02/2009.

Accession Number: 20090203-0261.

Comment Date: 5 p.m. Eastern Time on Monday, February 23, 2009.

Docket Numbers: ER09-650-000.

Applicants: PJM Interconnection, LLC.

Description: PJM Interconnection, LLC submits revised tariff sheets of the PJM Open Access Transmission Tariff and the Amended and Restated Operating Agreement of PJM Interconnection, LLC.

Filed Date: 02/03/2009.

Accession Number: 20090204-0088.

Comment Date: 5 p.m. Eastern Time on Tuesday, February 24, 2009.

Docket Numbers: ER09-653-000.

Applicants: Carolina Power & Light Company.

Description: Progress Energy Carolinas, Inc. submits a revised Power Sales Agreement with North Carolina Electric Membership Corporation, effective 4/5/09.

Filed Date: 02/04/2009.

Accession Number: 20090205-0367.

Comment Date: 5 p.m. Eastern Time on Wednesday, February 25, 2009.

Docket Numbers: ER09-654-000.

Applicants: Midwest Independent Transmission System Operator, Inc.

Description: Midwest Independent Transmission System Operator, Inc Request to Terminate the Market Participant Agreement with JJR Power LLC and Notice Regarding Continuing and Anticipated Default.

Filed Date: 02/04/2009.

Accession Number: 20090205-0368.

Comment Date: 5 p.m. Eastern Time on Wednesday, February 25, 2009.

Docket Numbers: ER09-662-000.

Applicants: PJM Interconnection L.L.C.

Description: PJM Interconnection, LLC submits an executed Wholesale Market Participation Agreement with Frederick County Department of Public Works and Potomac Edison Company, etc.

Filed Date: 02/06/2009.

Accession Number: 20090209-0118.

Comment Date: 5 p.m. Eastern Time on Friday, February 27, 2009.

Docket Numbers: ER09-680-000.

Applicants: Westar Energy, Inc.

Description: Westar Energy, Inc. submits an unexecuted Cost-Based Bridge Agreement, FERC Rate Schedule No. 314 with the City of Arma, Kansas.

Filed Date: 02/06/2009.

Accession Number: 20090210-0278.

Comment Date: 5 p.m. Eastern Time on Tuesday, February 17, 2009.

Take notice that the Commission received the following electric securities filings:

Docket Numbers: ES09-17-000.

Applicants: ITC Great Plains, LLC.

Description: Application of ITC Great Plains, LLC for Authorization to Issue Securities Under Section 204 of the Federal Power Act.

Filed Date: 02/04/2009.

Accession Number: 20090204-5052.

Comment Date: 5 p.m. Eastern Time on Wednesday, February 25, 2009.

Take notice that the Commission received the following open access transmission tariff filings:

Docket Numbers: OA08-17-001.

Applicants: WSPP Inc.

Description: WSPP Inc. submits request for exemption of the Order 890 Compliance issued November 10, 2008.

Filed Date: 02/09/2009.

Accession Number: 20090209-5244.

Comment Date: 5 p.m. Eastern Time on Monday, March 2, 2009.

Docket Numbers: OA08-89-001.

Applicants: Mid-Continent Area Power Pool.

Description: Mid-Continent Area Power Pool submits Order No. 890-A Tariff Revisions in compliance with the letter order issued on January 9, 2009.

Filed Date: 02/09/2009.

Accession Number: 20090209-5243.

Comment Date: 5 p.m. Eastern Time on Monday, March 2, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E9-3370 Filed 2-13-09; 8:45 am]

BILLING CODE 6717-01-P